ENVIRONMENTAL PROTECTION AGENCY

40 CFR Part 180

[EPA-HQ-OPP-2021-0088; FRL-10020-47]

Receipt of a Pesticide Petition Filed for Residues of Pesticide Chemicals in or on Various Commodities (February 2021)

AGENCY: Environmental Protection Agency (EPA).

ACTION: Filing of petition and request for comment.

SUMMARY: This document announces the Agency's receipt of an initial filing of a pesticide petition requesting the establishment or modification of regulations for residues of pesticide chemicals in or on various commodities.

DATES: Comments must be received on or before March 29, 2021.

ADDRESSES: Submit your comments, identified by docket identification (ID) number EPA-HQ-OPP-2021-0088, by using the Federal eRulemaking Portal at http://www.regulations.gov. Follow the online instructions for submitting comments. Do not submit electronically any information you consider to be Confidential Business Information (CBI) or other information whose disclosure is restricted by statute.

Due to the public health concerns related to COVID-19, the EPA Docket Center (EPA/DC) and Reading Room is closed to visitors with limited exceptions. The staff continues to provide remote customer service via email, phone, and webform. For the latest status information on EPA/DC services and docket access, visit https://www.epa.gov/dockets.

FOR FURTHER INFORMATION CONTACT: Marietta Echeverria, Registration Division (7505P), main telephone number: (703) 305-7090, email address: RDFRNotices@epa.gov. The mailing address for each contact person is: Office of Pesticide Programs, Environmental Protection Agency, 1200 Pennsylvania Ave. NW, Washington, DC 20460-0001. As part of the mailing address, include the contact person's name, division, and mail code. The division to contact is listed at the end of each pesticide petition summary.

SUPPLEMENTARY INFORMATION:

I. General Information

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

• Pesticide manufacturing (NAICS code 32532).

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

3. Environmental justice. EPA seeks to achieve environmental justice, the fair treatment and meaningful involvement of any group, including minority and/or low-income populations, in the development, implementation, and enforcement of environmental laws, regulations, and policies. To help address potential environmental justice issues, the Agency seeks information on any groups or segments of the population who, as a result of their location, cultural practices, or other factors, may have atypical or disproportionately high and adverse human health impacts or environmental effects from exposure to the pesticides discussed in this document, compared to the general population.

II. What action is the Agency taking?

EPA is announcing receipt of a pesticide petition filed under section 408 of the Federal Food, Drug, and Cosmetic Act (FFDCA), 21 U.S.C. 346a, requesting the establishment or modification of regulations in 40 CFR [part 174 and/or part 180] for residues of pesticide chemicals in or on various food commodities. The Agency is taking public comment on the request before responding to the petitioner. EPA is not proposing any particular action at this time. EPA has determined that the pesticide petition described in this document contains data or information prescribed in FFDCA section 408(d)(2), 21 U.S.C. 346a(d)(2); however, EPA has not fully evaluated the sufficiency of the submitted data at this time or whether the data supports granting of the pesticide petition. After considering the public comments, EPA intends to evaluate whether and what action may be warranted. Additional data may be needed before EPA can make a final determination on this pesticide petition.

Pursuant to 40 CFR 180.7(f), a summary of the petition that is the subject of this document, prepared by the petitioner, is included in a docket EPA has created for this rulemaking. The docket for this petition is available at http://www.regulations.gov.

As specified in FFDCA section 408(d)(3), 21 U.S.C. 346a(d)(3), EPA is publishing notice of the petition so that the public has an opportunity to comment on this request for the establishment or modification of regulations for residues of pesticides in or on food commodities. Further information on the petition may be obtained through the petition summary referenced in this unit.

Amended Tolerances for Non-Inerts

1. PP 0F8855. (EPA-HQ-OPP-2020-0607). Bayer CropScience, 800 N Lindbergh Blvd., St. Louis, MO 63167, requests to amend the tolerance(s) in 40 CFR 180.661(a)(1) for residues of the fungicide fluopyram (N-[2-[3-chloro-5-(trifluoromethyl)-2-pyridinyl]ethyl]-2-(trifluoromethyl)benzamide) in or on Grain, cereal, group 15, except corn and rice from 4.0 parts per million (ppm) to 0.5 ppm, and Rapeseed subgroup 20A from 5.0 ppm to 0.3 ppm. High performance liquid chromatography-electrospray ionization/tandem mass spectrometry (LC/MS/MS) is used to measure and evaluate the chemical fluopyram. Contact: RD.

2. PP 0F8855. (EPA-HQ-OPP-2020-0607). Bayer CropScience, 800 N Lindbergh Blvd., St. Louis, MO 63167, requests to amend the tolerance(s) in 40 CFR 180.661(2) for residues of the fungicide fluopyram (N-[2-[3-chloro-5-(trifluoromethyl)-2-pyridinyl]ethyl]-2-(trifluoromethyl)benzamide) and its metabolite 2-(trifluoromethyl)benzamide, expressed in parent equivalents in or on the animal commodities of Cattle, fat from 0.70 ppm to 0.60 ppm, Cattle, meat from 0.80 ppm to 0.60 ppm, Cattle, meat byproducts from 7.5 ppm to 6.0 ppm, Egg from 0.08 ppm to 0.06 ppm, Goat, fat from 0.70 ppm to 0.60 ppm, Goat, meat from 0.80 ppm to 0.60 ppm, Goat, meat byproducts from 7.5 ppm to 6.0 ppm, Hog, fat from 0.20 ppm to 0.01 ppm, Hog, meat from 0.02 ppm to 0.01 ppm, Hog, meat byproducts from 0.20 ppm to 0.06 ppm, Horse, fat from 0.70 ppm to 0.60 ppm, Horse, meat from 0.80 ppm to 0.60 ppm, Horse, meat byproducts from 7.5 ppm to 6.0 ppm, Poultry, fat from 0.04 ppm to 0.03 ppm, Poultry, meat from 0.04 ppm to 0.03 ppm, Poultry, meat byproducts from 0.20 ppm to 0.10 ppm, Sheep, fat from 0.70 ppm to 0.60 ppm, Sheep, meat from 0.80 ppm to 0.60 ppm, and Sheep, meat byproducts from 7.5 ppm to 6.0 ppm. High performance liquid chromatography-electrospray ionization/tandem mass spectrometry (LC/MS/MS) is used to measure and evaluate the chemical fluopyram and its metabolite 2-(trifluoromethyl)benzamide. Contact: RD.

New Tolerances for Non-Inerts

1. PP 0E8847. (EPA-HQ-OPP-2020-0419). Syngenta Crop Protection, LLC, P.O. Box 18300, Greensboro, NC 27419, requests to establish a tolerance in 40 CFR part 180 for residues of the fungicide, fludioxonil, [4-(2,2-difluoro-1,3-benzodioxol-4-yl)-1H-pyrrole-3-carbonitrile] in or on carrot, roots at 7 parts per million (ppm); celtuce at 15 ppm; cottonseed subgroup 20C at 0.05 ppm; dragon fruit at 20 ppm; durian at 20 ppm; fennel, florence, fresh leaves and stalk at 15 ppm; jackfruit at 20 ppm; leaf petiole vegetable subgroup 22B at 15 ppm; leafy greens subgroup 4-16A at 30 ppm; mangosteen at 5 ppm; persimmon, Japanese at 5 ppm; sunflower subgroup 20B at 0.01 ppm; tropical and subtropical, small fruit, inedible peel, subgroup 24A at 20 ppm; vegetable, legume, group 6, except bean, dry and bean, succulent at 0.01 ppm; vegetable, root, except sugar beet, subgroup 1B, except carrot and ginseng at 0.75 ppm; and vegetable, tuberous and corm, subgroup 1C, except yam, true, tuber at 6 ppm. Upon approval of the aforementioned tolerances, it is proposed that 40 CFR 180.516 be amended to remove established tolerances for the residues of fludioxonil, [4-(2,2-difluoro-1,3-benzodioxol-4-yl)-1H-pyrrole-3-carbonitrile] in or on the raw agricultural commodities: Carrots at 7.0 ppm; cotton, undelinted seed at 0.05 ppm; dragon fruit at 1.0 ppm; leaf petioles subgroup 4B at 15 ppm; leafy greens subgroup 4A at 30 ppm; longan at 20 ppm; lychee at 20 ppm; melon subgroup 9A at 0.03 ppm; safflower, seed at 0.01 ppm; Spanish lime at 20 ppm; sunflower, seed at 0.01 ppm; vegetable, legume, group 6 at 0.01 ppm; vegetable, root, except sugar beet, subgroup 1B at 0.75 ppm; and vegetable, tuberous and corm, subgroup 1C at 6.0 ppm. The analytical method uses Syngenta Crop Protection Method AG-597B. This method has passed an EPA petition method validation for several commodities, which is currently the enforcement method for fludioxonil. Contact: RD.

2. PP 0E8862. (EPA-HQ-OPP-2020-0603). The Interregional Research Project No. 4 (IR-4), Rutgers, The State University of New Jersey, 500 College Road East, Suite 201 W, Princeton, NJ 08540, requests to establish a tolerance in 40 CFR part 180.677 for residues of the insecticide cyflumetofen, 2-methoxyethyl α-cyano-α-[4-(1,1-dimethylethyl)phenyl]-β-oxo-2-(trifluoromethyl)benzenepropanoate in or on Hop, dried cones at 30 parts per million (ppm). The “Method for Determination of Residues of Cyflumetofen (BAS 9210 I) and its Metabolites in Plant Matrices Using LC-MS/MS; BASF Analytical Method Number: D1003; Dated: September 26, 2011” and “Independent Laboratory Validation of BASF Method D1003 for BAS 9210 I and B-1 in Hops using LC-MS/MS; Author: Nadzeya Homazava, 13 June 2017.” BASF Doc ID 2017/1002961 are used to measure and evaluate the chemical. Contact: RD.

3. PP 0F8853. (EPA-HQ-OPP-2020-0375). Syngenta Crop Protection, LLC, P.O. Box 18300, Greensboro, NC 27419, requests to establish a tolerance in 40 CFR part 180 for residues of the herbicide, bicyclopyrone in or on banana at 0.01 parts per million (ppm); broccoli at 0.01 ppm; garlic, bulb at 0.02 ppm; hops, dried cones at 0.04 ppm; horseradish at 0.015 ppm; onion, bulb: 0.02 ppm, onion, green at 0.05 ppm; papaya at 0.01 ppm; plantains at 0.01 ppm; strawberry at 0.01 ppm; sweet potato, roots at 0.02 ppm; timothy, forage at 0.9 ppm; timothy, hay at 1.5 ppm; and watermelon at 0.01 ppm. The Analytical methods GRM030.05A, GRM030.05B, GRM030.08A is used to measure and evaluate the chemical bicyclopyrone. Contact: RD.

4. PP 0F8855. (EPA-HQ-OPP-2020-0607). Bayer CropScience, 800 N Lindbergh Blvd., St. Louis, MO 63167 requests to establish a tolerance in 40 CFR part 180.661 for residues of the fungicide fluopyram (N-[2-[3-chloro-5-(trifluoromethyl)-2-pyridinyl]ethyl]-2-(trifluoromethyl)benzamide) in or on coffee at 0.03 parts per million (ppm). High performance liquid chromatography-electrospray ionization/tandem mass spectrometry (LC/MS/MS) is used to measure and evaluate the chemical fluopyram. Contact: RD

5. PP 0F8858. (EPA-HQ-OPP-2021-0020). Syngenta Crop Protection, LLC, P.O. Box 18300, Greensboro, NC 27419, requests to establish a tolerance in 40 CFR part 180 for residues of the fungicide, fludioxonil, [4-(2,2-difluoro-1,3-benzodioxol-4-yl)-1H-pyrrole-3-carbonitrile] in or on tree nut crop group 14-12, except pistachios at 0.2 parts per million (ppm) and almond hulls at 15 ppm. The analytical method uses Syngenta Crop Protection Method AG-597B. This method has passed an EPA petition method validation for several commodities, which is currently the enforcement method for fludioxonil. Contact: RD.

Authority: 21 U.S.C. 346a.

Dated: February 12, 2021.
Delores Barber,
Director, Information Technology and Resources Management Division, Office of Program Support.

[FR Doc. 2021-03714 Filed 2-24-21; 8:45 am]

BILLING CODE 6560-50-P